DEPARTMENT OF DEFENSE

Office of the Secretary

Board of Regents, Uniformed Services University of the Health Sciences; Notice of Federal Advisory Committee Meeting

AGENCY: Under Secretary of Defense for Personnel and Readiness (USD(P&R)), Department of Defense (DoD).

ACTION: Notice of Federal Advisory Committee meeting.

SUMMARY: The DoD is publishing this notice to announce that the following Federal Advisory Committee meeting of the Board of Regents, Uniformed Services University of the Health Sciences (Board, USU) will take place.

DATES: Friday, May 15, 2020 open to the public from 8:00 a.m. to 10:25 a.m. The closed session will follow from approximately 10:30 a.m. to 10:50 a.m.

ADDRESSES: Both the open and closed portions of the meeting will be held online. If you are interested in observing the open portion of the Board meeting online, please contact usu_external_affairs@usuhs.edu for connectivity information.

FOR FURTHER INFORMATION CONTACT: Mrs. Sarah Marshall, Designated Federal Officer (DFO), at (301) 295-3955 or sarah.marshall@usuhs.edu. Mailing address is 4301 Jones Bridge Road, Bethesda, MD 20814. Website: https://www.usuhs.edu/vpe/bor.

SUPPLEMENTARY INFORMATION: Due to circumstances beyond the control of the DoD and the DFO, the Board, USU was unable to provide public notification required by 41 CFR 102-3.150(a) concerning its meeting on May 15, 2020. Accordingly, the Advisory Committee Management Officer for the DoD, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: The purpose of the meeting is to provide advice and recommendations to the Secretary of Defense, through the USD(P&R), on academic and administrative matters critical to the full accreditation and successful operation of USU. These actions are necessary for USU to pursue its mission, which is to educate, train and comprehensively prepare uniformed services health professionals, officers, scientists, and leaders to support the Military and Public Health Systems, the National Security and National Defense Strategies of the United States, and the readiness of our Uniformed Services.

Agenda: The actions scheduled to occur include the review of any administrative matters of general consent (e.g., degree conferrals, faculty appointments and promotions, award recommendations, etc.) that may have been electronically voted on since the previous Board meeting on February 5, 2020; Board actions, to include recommendations for degree conferrals, faculty appointments and promotions, and faculty/student awards presented by the deans of USU's schools and colleges; a report by the USU President; a report by the Office of the Assistant Secretary of Defense for Health Affairs; reports from the Hébert School of Medicine, the Daniel K. Inouye Graduate School of Nursing, the Postgraduate Dental College, and the College of Allied Health Sciences; a report from the Office of Accreditation and Organizational Assessment; a report from the Office of Finance and Administration; and a report from the Brigade Commander. A closed session will be held following the open session to discuss active investigations and personnel actions.

Meeting Accessibility: Pursuant to Federal statutes and regulations (5 U.S.C. Appendix, 5 U.S.C. 552b, and 41 CFR 102-3.140 through 102-3.165), the meeting will be held online and is open to the public from 8:00 a.m. to 10:25 a.m. Members of the public wishing to observe the meeting should contact External Affairs via email at usu_external_affairs@usuhs.edu no later than 2 business days prior to the meeting. Pursuant to 5 U.S.C. 552b(c)(2, 5-7), the DoD has determined that the portion of the meeting from 10:30 a.m. to 10:50 a.m. shall be closed to the public. The USD(P&R), in consultation with the DoD Office of General Counsel, has determined in writing that this portion of the Board's meeting will be closed as the discussion will disclose sensitive personnel information, will include matters that relate solely to the internal personnel rules and practices of the agency, will involve allegations of a person having committed a crime or censuring an individual, and may disclose investigatory records compiled for law enforcement purposes.

Written Statements: Pursuant to section 10(a)(3) of the FACA and 41 CFR 102-3.140, the public or interested organizations may submit written comments to the Board about its approved agenda pertaining to this meeting or at any time regarding the Board's mission. Individuals submitting a written statement must submit their statement to the USU External Affairs email address at usu_external_affairs@usuhs.edu. Written statements that do not pertain to a scheduled meeting of the Board may be submitted at any time. If individual comments pertain to a specific topic being discussed at the planned meeting, then these statements must be received at least 5 calendar days prior to the meeting. Otherwise, the comments may not be provided to or considered by the Board until a later date. The DFO will compile all timely submissions with the Board's Chair and ensure such submissions are provided to Board Members before the meeting.

Dated: May 13, 2020.
Aaron T. Siegel,
Alternate OSD Federal Register Liaison Officer, Department of Defense.

[FR Doc. 2020-10628 Filed 5-15-20; 8:45 am]

BILLING CODE 5001-06-P